POSTAL SERVICE

39 CFR Part 111

General Information on Postal Service

AGENCY: Postal Service.

ACTION: Final rule.

SUMMARY: The Postal Service will issue a redesigned Domestic Mail Manual (DMM). The redesigned manual is renamed, Mailing Standards of the United States Postal Service, Domestic Mail Manual, and replaces the former Domestic Mail Manual, Issue 58. The redesigned manual is not intended to alter existing standards in DMM 58, and contains the mailing standards effective through January 6, 2005. The new manual presents USPS domestic mailing standards in a manner that increases usability and provides better access to USPS products and services.

DATES: Effective Date: This final rule is effective on March 23, 2005. The incorporation by reference of Mailing Standards of the United States Postal Service, Domestic Mail Manual, is approved by the Director of the Federal Register as of March 23, 2005.

FOR FURTHER INFORMATION CONTACT: Sherry L. Freda, (202) 268-7259.

SUPPLEMENTARY INFORMATION: Effective March 20, 2005, the Postal Service will release a redesigned DMM. The redesigned DMM will be issued under a new name, Mailing Standards of the United States Postal Service, Domestic Mail Manual, and will become the official DMM that contains the domestic mailing standards of the Postal Service effective through January 6, 2005. On March 20, the new DMM will be available on line to all Postal employees and customers.

Focusing on who is mailing led the Postal Service to create a series of guides to assist mailers, starting with the consumer in the retail space. DMM 100, A Customer's Guide to Mailing, was launched in September 2002. That work was followed by DMM 200, A Guide to Mailing for Businesses and Organizations, which focuses on the information needs of small and medium volume mailers. We believe these first two provide access to postal services to customers who may not have considered using the mail before. These two guides are now followed by the Mailing Standards of the United States Postal Service, Domestic Mail Manual, which replaces the current DMM 58.

The redesigned DMM contains all USPS domestic mailing standards, reorganized in a way that is more intuitive to the user. Essentially, the new organization will (1) increase user's ability to find information, (2) increase confidence that users have found all the information they need, and (3) reduce the need to consult multiple chapters of the Manual to locate necessary information.

It is important to note that the redesign of the DMM does not alter and should not be construed as altering existing mailing standards in DMM 58. The Postal Service has not revised any standards based on the DMM redesign. Changes to mailing standards will continue to be published through Federal Register notices and the Postal Bulletin, and will appear in the next printed version of Mailing Standards of the United States Postal Service, Domestic Mail Manual, and in the online version available via Postal Explorer (http//:pe.usps.gov).

List of Subjects in 39 CFR Part 111

Administrative practice and procedure, Incorporation by reference.

In view of the considerations discussed above, the Postal Service hereby amends 39 CFR Part 111 as follows:

PART 111—GENERAL INFORMATION ON POSTAL SERVICE

1. The authority citation for part 111 continues to read as follows:

Authority: 5 U.S.C. 552(a); 39 U.S.C. 101, 401, 403, 414, 416, 3001-3011, 3201-3219, 3403-3406, 3621, 3626, 5001.

§§ 111.1, 111.2, 111.3, and 111.4 [Amended]

2. Amend §§ 111.1, 111.2, 111.3, and 111.4 by removing the words “Domestic Mail Manual” each time they appear, and adding the words “Mailing Standards of the United States Postal Service, Domestic Mail Manual” in their place.

3. Amend § 111.3(f) by adding the following new entry to the end of the table:

§ 111.3 Amendment to the Mailing Standards of the United States Postal Service, Domestic Mail Manual.

* * * * *

(f) * * *

Transmittal letter for issue | Dated | Federal Register publication
* * * * * * *
Premier Edition | January 6, 2005 | [insert FR citation for this Final Rule].

§ 111.4 [Amended]

4. Amend § 111.4 by removing “March 29, 1979” and adding “March 23, 2005” in its place.

Stanley F. Mires,
Chief Counsel, Legislative.

[FR Doc. 05-5360 Filed 3-22-05; 8:45 am]

BILLING CODE 7710-12-P